DEPARTMENT OF JUSTICE

Drug Enforcement Administration

[OMB Number 1117-0052]

Agency Information Collection Activities; Proposed Collection; Comments Requested: National Drug Threat Survey; Extension With Change of a Previously Approved Collection

ACTION: 60-Day Notice.

The United States Department of Justice (DOJ), Drug Enforcement Administration (DEA), will be submitting the following information collection request to the Office of Management and Budget (OMB) for review and approval in accordance with the Paperwork Reduction Act of 1995. The proposed information collection is published to obtain comments from the public and affected agencies. Comments are encouraged and will be accepted until June 3, 2013. This process is conducted in accordance with 5 CFR 1320.10.

If you have comments especially on the estimated public burden or associated response time, suggestions, or need a copy of the proposed information collection instrument with instructions or additional information, please contact Richard L. Nagy, Unit Chief, Domestic Strategic Intelligence Unit, Office of Intelligence, Warning, Plans and Programs, Drug Enforcement Administration, 8701 Morrissette Drive, Springfield, VA 22152.

Written comments and suggestions from the public and affected agencies concerning the proposed collection of information are encouraged. Your comments should address one or more of the following four points:

• Evaluate whether the proposed collection of information is necessary for the proper performance of the functions of the agency, including whether the information will have practical utility;

• Evaluate the accuracy of the agencies' estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this information collection 1117-0052:

(1) Type of Information Collection: Extension of a currently approved collection with change.

(2) Title of the Form/Collection: National Drug Threat Survey.

(3) Agency form number, if any, and the applicable component of the Department of Justice sponsoring the collection: Form Number: None.

(4) Affected public who will be asked or required to respond, as well as a brief abstract: Primary: Federal, State, Tribal, and Local law enforcement agencies. This survey is a critical component of the National Drug Threat Assessment and other reports and assessments produced by the Drug Enforcement Administration. It provides direct access to detailed drug threat data from state and local law enforcement agencies.

(5) An estimate of the total number of respondents and the amount of time estimated for an average respondent to respond: It is estimated that approximately 3,500 respondents will complete a survey response within approximately 20 minutes.

(6) An estimate of the total public burden (in hours) associated with the collection: There are an estimated 1,167 total annual burden hours associated with this collection.

If additional information is required contact: Jerri Murray, Department Clearance Officer, Policy and Planning Staff, Justice Management Division, Department of Justice, Two Constitution Square, 145 N Street NE., Room 3W-1407B, Washington, DC 20530

Dated: March 28, 2013.
Jerri Murray,
Department Clearance Officer for PRA, U.S. Department of Justice.

[FR Doc. 2013-07665 Filed 4-2-13; 8:45 am]

BILLING CODE 4410-09-P